DEPARTMENT OF COMMERCE

National Oceanic and Atmospheric Administration

50 CFR Part 648

[Docket No. 240405-0100; RTID 0648-XF181]

Fisheries of the Northeastern United States; Mackerel, Squid, and Butterfish Fishery; 2025 Commercial Atlantic Mackerel Fishery Closure

AGENCY: National Marine Fisheries Service (NMFS), National Oceanic and Atmospheric Administration (NOAA), Commerce.

ACTION: Temporary rule; reduction of possession limit.

SUMMARY: NMFS is closing the commercial Atlantic mackerel fishery through December 31, 2025. This closure is required by regulation because NMFS projects that 80 percent of the mackerel domestic annual harvest has been harvested. This action is necessary to comply with the regulations implementing the Mackerel, Squid, and Butterfish Fishery Management Plan and is intended to prevent overharvest of Atlantic mackerel.

DATES: Effective 0001 hours (hr) local time, September 16, 2025, through 2400 hr local time on December 31, 2025.

FOR FURTHER INFORMATION CONTACT: Maria Fenton, Fishery Policy Analyst, 978-281-9196.

SUPPLEMENTARY INFORMATION: The procedures for setting initial annual specifications for the species managed under the Mackerel, Squid, and Butterfish Fishery Management Plan (FMP) are described at 50 CFR part 648.22. The regulations at § 648.22(a)(3) require annual catch limits, commercial annual catch targets (including research set-aside, domestic annual harvest (DAH), Tier 3 landings caps, and domestic annual processing), joint venture processing, total allowable levels of foreign fishing, and recreational annual catch targets (including research set-aside) to be specified for the Atlantic mackerel fishery for a period of up to 3 years.

The Regional Administrator monitors mackerel fishery catch based on dealer reports and other available information. When the Regional Administrator projects that 80 percent of the DAH is harvested, the regulations at § 648.24(b)(1)(i) require NMFS to close the commercial mackerel fishery in Federal waters for the remainder of the fishing year. During November and December, NMFS has the discretion to not close the commercial mackerel fishery if there is a determination that landings projected for the remainder of the fishing year will not exceed the DAH. The regulations at § 648.26(a)(2)(i) state that while such a closure is in effect, vessels issued a Tier 1, 2, or 3 limited access mackerel permit are prohibited from taking and retaining, possessing, or landing more than 10,000 lb (4.54 mt) of mackerel per trip at any time, and from landing mackerel more than once per calendar day. Additionally, the regulations at § 648.26(a)(2)(ii) state that while such a closure is in effect, vessels issued an open access mackerel permit are prohibited from taking and retaining, possessing, or landing more than 2,500 lb (1.13 mt) of mackerel per trip at any time, and from landing mackerel more than once per calendar day. The regulations at § 648.24(d) require that upon determining that a closure is necessary, NMFS must: Notify the Executive Directors of the relevant Fishery Management Councils; notify permit holders at least 72 hrs before the effective date of the closure; provide adequate notice of the closure to recreational participants in the fishery; and publish notification of the closure in the Federal Register.

Based on dealer reports and other available information, the Regional Administrator projects that 80 percent of the mackerel DAH has been harvested as of September 4, 2025. The projected landings for the remainder of the fishing year 2025 are expected to exceed the DAH without reductions to trip limits. Therefore, effective 0001 hr local time on September 16, 2025, limited access mackerel vessels may not take and retain, possess, or land more than 10,000 lb (4.54 mt) of mackerel per trip at any time, and may only land mackerel once per calendar day, through 2400 hr local time on December 31, 2025. Limited access mackerel vessels that enter port before 0001 hr local time on September 16, 2025, may land and sell more than 10,000 lb (4.54 mt) of mackerel from that trip, consistent with possession restrictions at § 648.26(a)(1)(i). Additionally, effective 0001 hr local time on September 16, 2025, open access mackerel vessels may not take and retain, possess, or land more than 2,500 lb (1.13 mt) of mackerel per trip at any time, and may only land mackerel once per calendar day, through 2400 hr local time on December 31, 2025. Open access mackerel vessels that enter port before 0001 hr local time on September 16, 2025, may land and sell more than 2,500 lb (1.13 mt) of mackerel from that trip, consistent with possession restrictions at 648.26(a)(1)(ii).

Also, effective 0001 hr local time on September 16, 2025, through 2400 hr local time on December 31, 2025, federally permitted dealers may not purchase more than 10,000 lb (4.54 mt) of mackerel from a limited access mackerel vessel unless the vessel enters port before 0001 hr local time on September 16, 2025. Federally permitted dealers may not purchase more than 2,500 lb (1.13 mt) of mackerel from an open access mackerel vessel unless the vessel enters port before 0001 hr local time on September 16, 2025. The possession limits for the mackerel fishery will reset to the amounts outlined at §§ 648.26(a)(1)(i) and (ii) on January 1, 2026.

Regulations at § 648.22(d)(1) state that if annual mackerel specifications are not published in the Federal Register prior to the start of the fishing year, the previous year's annual specifications (excluding specifications of total allowable level of foreign fishing) will remain in effect. The previous year's specifications will be superseded as of the effective date of the final rule implementing the current year's annual specifications. On May 13, 2025, NMFS proposed reaffirming projected 2025 mackerel specifications which, if they become final, would remain unchanged from 2024 (90 FR 20265). The mackerel fishery has been operating under 2024 specifications since the start of the fishing year on January 1, 2025. Because the projected 2025 DAH is identical to the 2024 DAH, this commercial fishery closure would remain in effect if and when the 2025 specifications are finalized because the closure trigger (i.e., 80 percent of the DAH harvested) would still be met. The possession limits for the mackerel fishery will reset to the amounts outlined at §§ 648.26(a)(1)(i) and (ii) on January 1, 2026.

Classification

This action is required by 50 CFR part 648 and is exempt from review under Executive Order 12866.

NMFS finds good cause pursuant to 5 U.S.C. 553(b)(B) to waive prior notice and the opportunity for public comment because it would be contrary to the public interest and impracticable. The 2025 mackerel fishing year began in January 1, 2025. Data and other information indicating that 80 percent of the mackerel DAH has been harvested have only recently become available. Landings data are updated on a weekly basis, and NMFS monitors catch data on a daily basis as catch increases toward the limit. Further, high-volume catch and landings in this fishery increase total catch relative to the DAH quickly. Atlantic mackerel is currently being managed under a rebuilding plan, and exceeding the DAH may harm the stock's rebuilding progress. The regulations at § 648.24(b)(1)(i) require NMFS to implement this action to ensure that mackerel vessels do not exceed the DAH. If implementation of this action is delayed to solicit prior public comment, the mackerel DAH may be exceeded, thereby undermining the conservation objectives of the FMP. Furthermore, the public had prior notice and full opportunity to comment on this process when these provisions were put in place. Based on these considerations, NMFS further finds, pursuant to 5 U.S.C. 553(d)(3), good cause to waive the 30-day delayed effectiveness period for the reasons stated above.

Authority: 16 U.S.C. 1801 et seq.

Dated: September 15, 2025.
Kelly Denit,
Director, Office of Sustainable Fisheries, National Marine Fisheries Service.

[FR Doc. 2025-17988 Filed 9-15-25; 4:15 pm]

BILLING CODE 3510-22-P